DEPARTMENT OF COMMERCE

National Oceanic and Atmospheric Administration

50 CFR Part 635

[I.D. 010903D]

Atlantic Highly Migratory Species (HMS); Atlantic Shark Management Measures

AGENCY: National Marine Fisheries Service (NMFS), National Oceanic and Atmospheric Administration (NOAA), Commerce.

ACTION: Notice of public hearings.

SUMMARY: NMFS will hold six public hearings to receive comments from fishery participants and other members of the public regarding proposed shark regulations and draft Amendment 1 to the Fishery Management Plan for Atlantic Tunas, Swordfish and Sharks (Amendment 1). The proposed rule for Amendment 1, published in the Federal Register on August 1, 2003, and would change among other things, the rebuilding timeframe for LCS, the commercial regulations, the recreational regulations, and implement a number of measures to reduce bycatch. Additionally, Amendment 1 also proposes updates to essential fish habitat (EFH) identifications for sandbar, blacktip, finetooth, dusky, and nurse sharks.

DATES: The public hearings will be held in August and September 2003. For specific dates and times, see SUPPLEMENTARY INFORMATION. Comments on the proposed rule and Amendment 1 must be received no later than 5 p.m., on September 30, 2003.

ADDRESSES: The public hearings will be held in New Orleans, LA; Madeira Beach, FL; Montauk, NY; Pawleys Island, SC; Manteo, NC; and Atlantic Beach, FL. For specific locations, see SUPPLEMENTARY INFORMATION. Written comments on this action should be mailed to Christopher Rogers, Chief, NMFS Highly Migratory Species Management Division, 1315 East-West Highway, Silver Spring, MD 20910; or faxed to (301) 713-1917. Comments will not be accepted if submitted via e-mail or Internet. Copies of draft Amendment 1 can be obtained from the HMS website at: http://www.nmfs.noaa.gov/sfa/hmspg.html, or by contacting Karyl Brewster-Geisz, Heather Stirratt, or Chris Rilling at (301) 713-2347 or Greg Fairclough at (727) 570-5741.

FOR FURTHER INFORMATION CONTACT: Karyl Brewster-Geisz, Heather Stirratt, or Chris Rilling at (301) 713-2347 or Greg Fairclough at (727) 570-5741.

SUPPLEMENTARY INFORMATION: The Atlantic shark fisheries are managed under the authority of the Magnuson-Stevens Fishery Conservation and Management Act. The Fishery Management Plan for Atlantic Tunas, Swordfish, and Sharks, finalized in 1999, is implemented by regulations at 50 CFR part 635. Complete descriptions of the measures, as well as the purpose and need for the proposed actions, are contained in the proposed rule (August 1, 2003, 68 FR 45196 and Amendment 1) and are not repeated here.

The public is reminded that NMFS expects participants at the public hearings to conduct themselves appropriately. At the beginning of each public hearing, a NMFS representative will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Schedule of Public Hearings

The dates, times, and locations of the meetings are scheduled as follows:

1. Tuesday, August 26, 2003 - New Orleans, LA, 7-9 p.m.

New Orleans Airport Hilton Hotel, 901 Airline Drive, Kenner, Louisiana

2. Thursday, September 4, 2003 - Madeira Beach, FL, 7-9 p.m.

City of Madeira Beach, 300 Municipal Dr., Madeira Beach, FL 33708

3. Monday, September 8, 2003 - Montauk, NY, 7-9 p.m.

Montauk Fire House, 12 Flamingo Avenue, Montauk, NY 11954

4. Wednesday, September 17, 2003 - Pawleys Island, SC, 7-9 p.m.

Waccamaw Neck Branch Library, 24 Commerce Dr., Pawleys Island, SC 29585

5. Monday, September 22, 2003 - Manteo, NC, 7-9 p.m.

North Carolina Aquarium, Roanoke Island, Airport Road, Manteo, NC 27954

6. Thursday, September 25, 2003 - Atlantic Beach, FL, 7-9 p.m.

City of Atlantic Beach, Atlantic Beach City Chambers, 800 Seminole Rd., Atlantic Beach, FL 32233

Special Accommodations

These meetings are physically accessible to people with disabilities. Requests for sign language interpretation or other auxiliary aids should be directed to Heather Stirratt, (301) 713-2347, at least 7 days prior to the hearing in question.

Dated: August 7, 2003.
Richard W. Surdi,
Acting Director, Office of Sustainable FIsheries, National Marine Fisheries Service.

[FR Doc. 03-20516 Filed 8-11-03; 8:45 am]

BILLING CODE 3510-22-S